ENVIRONMENTAL PROTECTION AGENCY

[EPA-HQ-OW-2023-0475; FRL 10889-01-OW]

Draft Guidance for Future National Pollutant Discharge Elimination System (NPDES) Permitting of Combined Sewer Systems

AGENCY: Environmental Protection Agency (EPA).

ACTION: Notice; request for comment.

SUMMARY: The U.S. Environmental Protection Agency (EPA) is seeking comment on this draft Guidance to clarify and inform future National Pollutant Discharge Elimination System (NPDES) permitting actions for communities with combined sewer systems. This draft Guidance highlights the available approaches for permitting combined sewer overflow (CSO) communities nearing completion of the projects and activities identified in their Long-Term Control Plan (LTCP). The draft Guidance summarizes options under the Clean Water Act (CWA) that are articulated in the 1994 Combined Sewer Overflow Control Policy and the option to use the EPA's 2012 Integrated Planning Framework to look holistically at future investments in controlling wastewater and stormwater discharges and improving water quality.

DATES: Comments must be received on or before March 21, 2024.

ADDRESSES: You may send comments, identified by Docket ID No. EPA-HQ-OW-2023-0475, by any of the following methods:

• Federal eRulemaking Portal: https://www.regulations.gov (our preferred method). Follow the online instructions for submitting comments.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this rulemaking. Comments received may be posted without change to https://www.regulations.gov, including any personal information provided. For detailed instructions on sending comments, see the “Public Participation” heading of the SUPPLEMENTARY INFORMATION section of this document.

FOR FURTHER INFORMATION CONTACT: Kathryn Kazior, Office of Wastewater Management, Water Permits Division (MC4203M), Environmental Protection Agency, 1200 Pennsylvania Ave. NW, Washington, DC 20460; telephone number: (202) 564-2696; email address: kazior.kathryn@epa.gov.

SUPPLEMENTARY INFORMATION: Supporting Documentation. The docket contains supporting materials that were referenced in the development of this Guidance.

I. Executive Summary

The Combined Sewer Overflow (CSO) Control Policy (CSO Policy) was issued in 1994 and incorporated into the Clean Water Act (CWA) in 2000.¹ Since its issuance, communities with combined sewer systems nationwide have made substantial progress toward the goals established in the CSO Policy. During this same time, many factors that influence how communities address CSOs have evolved. Recognizing these ongoing changes and to aid communities addressing multiple municipal CWA requirements, in 2012, the EPA developed an Integrated Planning Framework that clarifies CWA flexibilities and offers a voluntary opportunity for a municipality to prioritize and sequence, where appropriate, those infrastructure projects that provide the greatest or fastest environmental and public health benefits. Integrated planning was added to the CWA in 2019.² The EPA is issuing this draft Guidance to clarify and inform future National Pollutant Discharge Elimination System (NPDES) permitting actions for communities with CSOs. This draft Guidance would be applicable to permitting actions once the CSO permittee has completed construction of CSO controls and demonstrated that they are achieving the performance objectives outlined in their Long-Term Control Plan (LTCP). The draft Guidance is intended to clarify the options available for CSO communities when they are nearing completion of the projects and activities identified in their LTCPs and inform future permitting actions consistent with the CSO Policy, and the CWA. In addition, the draft Guidance provides recommendations for permitting authorities on how to develop future CSO permits in more transparent, equitable, and resilient ways.

¹ In the Wet Weather Water Quality Act of 2000, Congress added section 402(q) to the CWA to provide that each permit, order, or decree issued after December 21, 2000, for a discharge from a municipal combined storm and sanitary sewer shall conform to the 1994 Combined Sewer Overflow Control Policy (33 U.S.C. 1342(q)(1)).

² In the Water Infrastructure Improvement Act (H.R. 7279), Congress added section 402(s) to the CWA that defines an Integrated Plan as one developed in accordance with the 2012 Integrated Municipal Stormwater and Wastewater Planning Approach Framework; and requires the EPA to inform municipalities of the opportunity to develop an Integrated Plan that may inform permit terms and conditions to help meet their existing CWA obligations (33 U.S.C. 1342(s)). These amendments clarified that municipalities may develop an Integrated Plan as defined under the CWA and the permitting authority may develop NPDES permit terms and conditions informed by that plan.

II. Public Participation

A. Request for Public Comments

The EPA requests public comment on the draft Guidance.

B. Written Comments

Submit your comments, identified by Docket ID No. EPA-HQ-OW-2023-0475, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

III. General Information

What action is the EPA taking?

The agency is requesting comments on this draft Guidance to clarify and inform future NPDES permitting actions for communities with CSOs. Visit the EPA website at: https://www.epa.gov/npdes/combined-sewer-overflow-control-policy for a copy of the draft Guidance. The draft Guidance will also be available at: https://www.regulations.gov, Docket ID No. EPA-HQ-OW-2023-0475.

Radhika Fox,
Assistant Administrator, Office of Water.

[FR Doc. 2024-03398 Filed 2-16-24; 8:45 am]

BILLING CODE 6560-50-P